DEPARTMENT OF COMMERCE

National Oceanic and Atmospheric Administration

Prize Purchases

AGENCY: Office of Oceanic and Atmospheric Research (OAR), National Oceanic and Atmospheric Administration (NOAA), Department of Commerce (DOC).

ACTION: Notice of prize purchase.

SUMMARY: This notice sets forth the intention of the Communication and Education (CommEd) Division of CPO to purchase and distribute prizes (1 t-shirt and 1 mug per month) to the monthly winners of the Climate Challenge—the social media game with a purpose.

SUPPLEMENTARY INFORMATION: This Social Media Game with a purpose was developed for several reasons:

1. To help improve public climate literacy (which is a Climate.gov requirement).

2. To engage Climate.gov's publics in a fun & challenging way, while also growing our readership (another req).

3. To test the hypothesis that there is “wisdom in the crowd” by comparing the crowd's averaged best guesses to experts' best guesses as well as real-world observations.

4. If we find evidence that there is indeed wisdom in the crowd, then that begs consideration of a next step: development of approaches for leveraging and focusing the crowd's wisdom in decision-making contexts for societal benefit.

Climate Challenge allows players to guess future climate-related conditions, such as the annual Arctic Sea Ice minimum coverage or a monthly average global surface temperature. The game also allows players to compare their answers to the experts' and, when available, see how both predictions compare to real-world measurements. There will be one climate-related question per month, and whoever comes closest to guessing the actual values will be that month's winner. For an added twist, participants can also compete against their friends, colleagues, or family members.

Climate Challenge also helps to build climate science literacy by encouraging players to explore online links to materials related to the topics addressed by each game question. Players who want to increase their chances of winning are encouraged to visit the links to gather information that may help them improve the accuracy of their guesses. NOAA's Climate.gov team will publish the real-world measurements once they become available, as well as short summaries of the methods that the experts used to make their guesses.

Matters To Be Considered:

Prizes will be distributed monthly. The prizes that will be given to each winner (one per month) are a black T-Shirt with the Climate Challenge Logo on the front and a mug consisting of the same logo as the t-shirt.

FOR FURTHER INFORMATION CONTACT: David Herring, Division Chief, Communication and Education Division, CPO, NOAA, Rm. 12104, 1315 East-West Highway, Silver Spring, Maryland 20910. (Phone: 301-734-1207, Fax: 301-713-0517, Email: David.Herring@noaa.gov). Please feel free to visit the Climate Challenge Web site using the following link: www.ecoresearch.net/climate-challenge.

Dated: June 3, 2015.
Jason Donaldson,
Chief Financial Officer and Chief Administrative Officer, Office of Oceanic and Atmospheric Research, National Oceanic and Atmospheric Administration.

[FR Doc. 2015-14730 Filed 6-17-15; 8:45 am]

BILLING CODE P